DEPARTMENT OF THE INTERIOR

Bureau of Land Management

[21X.LLAK930100.L16100000.PN0000]

Notice of Intent To Prepare a Supplemental Environmental Impact Statement for the Coastal Plain Oil and Gas Leasing Program, Alaska

AGENCY: Bureau of Land Management, Interior.

ACTION: Notice of intent.

SUMMARY: In accordance with Secretary's Order 3401, Comprehensive Analysis and Temporary Halt on all Activities in the Arctic National Wildlife Refuge Relating to the Coastal Plain Oil and Gas Leasing Program, the Bureau of Land Management (BLM) Alaska State Office, Anchorage, Alaska, intends to prepare a Supplemental Environmental Impact Statement (EIS) to the September 2019 Coastal Plain Oil and Gas Leasing Program EIS. The Supplemental EIS will provide a comprehensive analysis of the potential environmental impacts of the Program, including by addressing the deficiencies identified in Secretary's Order 3401.

DATES: This Notice initiates the public scoping process for the Supplemental EIS. Comments on issues, impacts, and potential new alternatives to be analyzed may be submitted in writing until October 4, 2021. The BLM will announce on its website any additional venues for commenting during scoping.

ADDRESSES: You may submit comments by any of the following methods:

• Website: https://eplanning.blm.gov/eplanning-ui/project/102555/510.

• Mail: BLM, Alaska State Office, Attention—Coastal Plain Supplemental EIS, 222 West 7th Avenue, #13, Anchorage, AK 99513-7599.

FOR FURTHER INFORMATION CONTACT: Serena Sweet, Project Lead, via email at blm_ak_coastalplain_supplementalEIS@blm.gov, or via telephone at 907-271-5960; or by mail at Bureau of Land Management, 222 West 7th Avenue, #13, Anchorage, Alaska 99513-7599. You may also request to be added to the mailing list for the Supplemental EIS. Additional background information and supporting documents may be found at the https://eplanning.blm.gov/eplanning-ui/project/102555/510.

Persons who use a telecommunications device for the deaf (TDD) may call the Federal Relay Service (FRS) at 1-800-877-8339 to contact the above individual during normal business hours. FRS is available 24 hours a day, 7 days a week, to leave a message or question with the above individual. You will receive a reply during normal business hours.

SUPPLEMENTARY INFORMATION: The area comprising the Coastal Plain includes approximately 1.6 million acres within the approximately 19.3 million-acre Arctic National Wildlife Refuge. In September 2019 and in connection with Public Law 115-97, Dec. 22, 2017, the BLM completed the Coastal Plain Oil and Gas Leasing Final EIS. The BLM then issued a Record of Decision (ROD) for the Coastal Plain Oil and Gas Leasing Program on August 8, 2020 (85 FR 51754). The ROD approved a program to implement Section 20001 of Public Law 115-97, which directed the BLM to manage the oil and gas leasing program on the Coastal Plain in a manner similar to lease sales under the Naval Petroleum Reserves Production Act of 1976 (including regulations).

On June 1, 2021, the Secretary of the Interior issued Secretary's Order 3401, Section 4 of which directed “a temporary halt on all Department activities related to the [Leasing] Program in the Arctic Refuge” pending “a new, comprehensive analysis of the potential environmental impacts of the Program” to “address . . . identified legal deficiencies.”

The purpose of this public scoping process is to determine the scope of issues to be addressed and to identify the significant issues, including any legal deficiencies in the Final EIS, related to an oil and gas leasing program within the Coastal Plain. Information received during this process will influence the development of the Supplemental EIS and guide the scope of the environmental analysis. The BLM will work collaboratively with interested parties to identify the management decisions best suited to local, regional, and national needs and concerns.

The purpose and need of the Supplemental EIS is bound by statute and remains the same as for the September 2019 Final EIS, i.e., to implement Section 20001 of Public Law 115-97. Potential new alternatives to be considered in the Supplemental EIS include, but are not limited to, those that would: Designate certain areas of the Coastal Plain as open or closed to leasing; permit less than 2,000 acres of surface development throughout the Coastal Plain; prohibit surface infrastructure in sensitive areas; and otherwise avoid or mitigate impacts from oil and gas activities.

The Supplemental EIS will evaluate impacts to various surface resources including, but not limited to, caribou, polar bears, birds, vegetation, and surface waters including wetlands, as well as to other uses of the Coastal Plain, including subsistence uses. The Supplemental EIS will also consider impacts from greenhouse gas emissions from any Leasing Program.

After the scoping comment period is closed, the BLM will review and consider the scoping comments received and will develop a Draft Supplemental EIS, which BLM estimates will be completed approximately 6 to 8 months after the scoping period ends. At that time the Draft Supplemental EIS will be made available for public comment for at least 45 days. After the close of the Draft Supplemental EIS comment period, BLM will develop a Final Supplemental EIS incorporating comments received on the Draft, which BLM estimates will be completed approximately 6 months after the Draft Supplemental EIS comment period ends. A record of decision selecting a program alternative from the Final Supplemental EIS would be issued no sooner than 30 days after notice of the availability of the Final Supplemental EIS is published in the Federal Register.

Authority: 40 CFR 1501.9(d), 40 CFR 1501.7 (2019).

Laura Daniel-Davis,
Principal Deputy Assistant Secretary, Land and Minerals Management.

[FR Doc. 2021-16572 Filed 8-3-21; 8:45 am]

BILLING CODE 4310-JA-P